DEPARTMENT OF STATE

[Public Notice 5943]

Bureau of International Security and Nonproliferation; Imposition of Nonproliferation Measures on Two Iranian Entities and a North Korean Entity, Including a Ban on U.S. Government Procurement

AGENCY: Bureau of International Security and Nonproliferation, Department of State.

ACTION: Notice.

SUMMARY: The U.S. Government has determined that three foreign entities have engaged in proliferation activities that warrant the imposition of measures pursuant to Executive Order 12938 of November 14, 1994, as amended by Executive Order 13094 of July 28, 1998 and Executive Order 13382 of June 28, 2005.

DATES: Effective Date: September 26, 2007.

FOR FURTHER INFORMATION CONTACT: On general issues: Pam Durham, Office of Missile Threat Reduction, Bureau of International Security and Nonproliferation, Department of State (202-647-4931). On import ban issues, Rochelle Stern, Director Policy Planning and Program Management, Office of Foreign Assets Control, Department of the Treasury (202-622-2500). On U.S. Government procurement ban issues: Gladys Gines, Office of the Procurement Executive, Department of State (703-516-1691).

SUPPLEMENTARY INFORMATION: Pursuant to the authorities vested in the President by the Constitution and the laws of the United States of America, including the International Emergency Economic Powers Act (50 U.S.C. 170, et seq.) (IEEPA), the National Emergencies Act (50 U.S.C. 1601, et seq.), the Arms Export Control Act (22 U.S.C. 2751, et seq.), and Section 301 of title 3, United States Code, and Executive Order 12938 of November 14, 1994, as amended, the U.S. Government determined that the following Iranian entities and North Korean entity have engaged in proliferation activities that warrant the imposition of measures pursuant to sections 4(b), 4(c), and 4(d) of Executive Order 12938:

Aerospace Industries Organization (AIO), (Iran).

Shahid Hemmat Industrial Group (SHIG), (Iran).

Korea Mining and Development Corporation (KOMID), (North Korea).

Accordingly, pursuant to the provisions of Executive Order 12938, the following measures are imposed on these entities, their subunits, and successors for two years:

1. All departments and agencies of the United States Government shall not procure or enter into any contract for the procurement of any goods, technology, or services from these entities including the termination of existing contracts;

2. All departments and agencies of the United States government shall not provide any assistance to these entities, and shall not obligate further funds for such purposes;

3. The Secretary of the Treasury shall prohibit the importation into the United States of any goods, technology, or services produced or provided by these entities, other than information or informational materials within the meaning of section 203(b)(3) of the International Emergency Economic Powers Act (50 U.S.C. 1702(b)(3)).

These measures shall be implemented by the responsible departments and agencies as provided in Executive Order 12938.

In addition, pursuant to section 126.7(a)(1) of the International Traffic in Arms Regulations, it is deemed that suspending the above-named entities from participating in any activities subject to Section 38 of the Arms Export Control Act would be in furtherance of the national security and foreign policy of the United States. Therefore, for two years, the Department of State is hereby suspending all licenses and other approvals for: (a) Exports and other transfers of defense articles and defense services from the United States; (b) transfers of U.S.-origin defense articles and defense services from foreign destinations; and (c) temporary import of defense articles to or from the above-named entities.

Moreover, it is the policy of the United States to deny licenses and other approvals for exports and temporary imports of defense articles and defense services destined for these entities.

Dated: September 20, 2007.
John C. Rood,
Assistant Secretary of State for International Security and Nonproliferation, Department of State.

[FR Doc. E7-18997 Filed 9-25-07; 8:45 am]

BILLING CODE 4710-27-P